DEPARTMENT OF ENERGY

Federal Energy Regulatory Commission

Combined Notice of Filings #1

Take notice that the Commission received the following electric corporate filings:

Docket Numbers: EC17-36-000.

Applicants: TransCanada Hydro Northeast Inc., Great River Hydro NE., LLC.

Description: Joint Application of TransCanada Hydro Northeast Inc., et al. for Dispositions of Jurisdictional Facilities under Section 203 of the FPA and Requests for Waivers, et al.

Filed Date: 11/18/16.

Accession Number: 20161118-5232.

Comments Due: 5 p.m. ET 12/9/16.

Docket Numbers: EC17-37-000.

Applicants: Westar Energy, Inc.

Description: Application of Westar Energy, Inc. for Authorization for Consolidation of Jurisdictional Facilities, et al.

Filed Date: 11/18/16.

Accession Number: 20161118-5238.

Comments Due: 5 p.m. ET 12/9/16.

Take notice that the Commission received the following electric rate filings:

Docket Numbers: ER10-1946-013.

Applicants: Broad River Energy LLC.

Description: Notice of Change in Status of Broad River Energy LLC.

Filed Date: 11/18/16.

Accession Number: 20161118-5246.

Comments Due: 5 p.m. ET 12/9/16.

Docket Numbers: ER16-2493-001.

Applicants: South Carolina Electric & Gas Company.

Description: Tariff Amendment: SCPSA Interchange Agreement Additional Info to be effective 8/26/2016.

Filed Date: 11/18/16.

Accession Number: 20161118-5198.

Comments Due: 5 p.m. ET 12/9/16.

Docket Numbers: ER16-2730-001.

Applicants: LSC Communications US, LLC.

Description: Tariff Amendment: LSCC MBRA App Supplement to be effective 10/1/2016.

Filed Date: 11/18/16.

Accession Number: 20161118-5105.

Comments Due: 5 p.m. ET 12/9/16.

Docket Numbers: ER17-157-001.

Applicants: Moapa Southern Paiute Solar, LLC.

Description: Tariff Amendment: Supplement to Application for Order Accepting Initial Market-Based Rate Tariff to be effective 10/22/2016.

Filed Date: 11/18/16.

Accession Number: 20161118-5119.

Comments Due: 5 p.m. ET 11/28/16.

Docket Numbers: ER17-391-000.

Applicants: PJM Interconnection, L.L.C.

Description: § 205(d) Rate Filing: PJM Submits Revisions to OATT and OA to Add Tie Line Definition to be effective 1/19/2017.

Filed Date: 11/18/16.

Accession Number: 20161118-5170.

Comments Due: 5 p.m. ET 12/9/16.

Docket Numbers: ER17-392-000.

Applicants: City of Pasadena, California.

Description: § 205(d) Rate Filing: Transmission Revenue Requirement Revision to be effective 11/21/2016.

Filed Date: 11/18/16.

Accession Number: 20161118-5192.

Comments Due: 5 p.m. ET 12/9/16.

Docket Numbers: ER17-393-000.

Applicants: ITC Midwest LLC.

Description: § 205(d) Rate Filing: Filing of Joint Use Pole Agreement with Great River Energy to be effective 12/5/2016.

Filed Date: 11/18/16.

Accession Number: 20161118-5196.

Comments Due: 5 p.m. ET 12/9/16.

Docket Numbers: ER17-394-000.

Applicants: KMC Thermo, LLC.

Description: § 205(d) Rate Filing: Notice of Change in Status and Proposed Revisions to Market-Based Rate Schedule to be effective 1/18/2017.

Filed Date: 11/18/16.

Accession Number: 20161118-5199.

Comments Due: 5 p.m. ET 12/9/16.

Docket Numbers: ER17-395-000.

Applicants: Ironwood Windpower, LLC.

Description: § 205(d) Rate Filing: Ironwood-Westar Substation Use Agreement RS No. 1 to be effective 12/23/2016.

Filed Date: 11/18/16.

Accession Number: 20161118-5200.

Comments Due: 5 p.m. ET 12/9/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 21, 2016.
Nathaniel J. Davis, Sr.,
Deputy Secretary.

[FR Doc. 2016-28464 Filed 11-25-16; 8:45 am]

BILLING CODE 6717-01-P